DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Customer Transactional Survey.

Form Number(s): None. The Patent Customer Transactional Survey does not have a USPTO form number assigned to it. When they survey is approved, it will carry the OMB Control Number and the date on which OMB's approval of the information collection expires.

Agency Approval Number: 0651-00XX.

Type of Request: New collection.

Burden: 192 hours.

Number of Respondents: 2,400 responses.

Avg. Hours Per Response: 5 minutes. The USPTO estimates that it takes an average of 5 minutes (0.08 hours) to complete the survey, whether it is mailed to the USPTO or completed online. This includes the time to gather the necessary information, respond to the survey, and submit it to the USPTO.

Needs and Uses: The USPTO developed the Patent Customer Transactional Survey to obtain additional data concerning customer satisfaction in three key areas: the legal positions of the examiners, the search functions of the various Automated Information Systems, and problem resolution at the USPTO. During previous surveys, the USPTO determined that these areas are key drivers of overall customer satisfaction. The USPTO developed this survey to fulfill a key quality initiative in the USPTO's 21st Century Strategic Plan and to gather feedback from the applicant about their satisfaction with how the agency prosecuted their patent application. The USPTO plans to use this data in the development of efficient and cost-effective customer satisfaction improvement strategies and in reporting the agency's performance standards. This voluntary survey is primarily a mail survey, although respondents will be able to respond through the Internet using a web-based version of this survey.

Affected Public: Individuals or households; business or other for-profit; and not-for-profit institutions.

Frequency: On occasion.

Respondent's Obligation: Voluntary.

OMB Desk Officer: David Rostker, (202) 395-3897.

Copies of the above information collection proposal can be obtained by any of the following methods:

• E-mail: Susan.Brown@uspto.gov. Include “0651-00XX Patent Customer Transactional Survey copy request” in the subject line of the message.

• Fax: 571-273-0112, marked to the attention of Susan Brown.

• Mail: Susan K. Brown, Records Officer, Office of the Chief Information Officer, Office of Data Architecture and Services, Data Administration Division, U.S. Patent and Trademark Office, PO Box 1450, Alexandria, VA 22313-1450.

Written comments and recommendations for the proposed information collection should be sent on or before March 14, 2005 to David Rostker, OMB Desk Officer, Room 10202, New Executive Office Building, 725 17th Street NW., Washington, DC 20503.

Dated: February 3, 2005.
Susan K. Brown,
Records Officer, USPTO, Office of Data Architecture and Services, Data Administration Division.

[FR Doc. 05-2572 Filed 2-9-05; 8:45 am]

BILLING CODE 3510-16-P